DEPARTMENT OF THE INTERIOR

Fish and Wildlife Service

[FWS-R6-R-2011-N212; FF06R06000-FXRS1265066CCP0S2-123]

Establishment of Dakota Grassland Conservation Area, North Dakota and South Dakota

AGENCY: Fish and Wildlife Service, Interior.

ACTION: Notice.

SUMMARY: This notice advises the public that the U.S. Fish and Wildlife Service (Service) has established the Dakota Grassland Conservation Area, the 554th unit of the National Wildlife Refuge System. The Service established the Dakota Grassland Conservation Area on September 21, 2011, with the purchase of a 318.18-acre grassland easement in Walworth County, South Dakota.

ADDRESSES: A map depicting the approved Refuge boundary and other information regarding the Refuge is available on the Internet at http://www.fws.gov/mountain-prairie/planning/.

FOR FURTHER INFORMATION CONTACT: Nick Kaczor, Planning Team Leader, Division of Refuge Planning, USFWS, P.O. Box 25486, DFC, Denver, CO 80225. http://www.fws.gov/mountain-prairie/planning/.

SUPPLEMENTARY INFORMATION: The Service established the Dakota Grassland Conservation Area in the eastern parts of North Dakota and South Dakota, which cover all counties north and east of the Missouri River except those in the existing Dakota Tallgrass Prairie Wildlife Management Area. The Service will continue to conserve wetland and grassland resources in the conservation area, primarily through the purchase of perpetual easements from willing sellers. These wetland and grassland easements will connect and expand existing lands under conservation protection.

The area's strong and vibrant rural lifestyle, of which agriculture is the dominant land use, is one of the key components to ensuring habitat integrity and wildlife resource protection. Based on anticipated levels of landowner participation, objectives for the conservation area are to protect 240,000 acres of wetland and 1.7 million acres of critical grassland habitat. The conservation area is a landscape-scale effort to conserve populations of priority species in a highly diverse and endangered ecosystem over an area of approximately 29.6 million acres. Therefore, it is important to incorporate the elements of strategic habitat conservation (SHC) to ensure effective conservation. SHC entails strategic biological planning and conservation design, integrated conservation delivery, monitoring, and research at ecoregional scales.

This conservation area allows the Service to purchase critical wetland and grassland easements, using the acquisition authority of the Fish and Wildlife Act of 1956 (16 U.S.C. 742a-j). In response to comments received during the public review of the draft environmental assessment (EA) and land protection plan (LPP), the Service included the authority of the Migratory Bird Conservation Act of 1929 (16 U.S.C. 715-715d, 715e, 715f-r). The Federal money used to acquire conservation easements is from the Land and Water Conservation Fund Act of 1965, as amended (16 U.S.C. 460l-4 through 11; funds received under this act are derived primarily from oil and gas leases on the Outer Continental Shelf, motorboat fuel taxes, and the sale of surplus Federal property), and the sale of Federal Duck Stamps [Migratory Bird Hunting and Conservation Stamp Act (16 U.S.C. 718-718j, 48 Stat. 452)]. Additional funding to acquire lands, water, or interests for fish and wildlife conservation purposes could be identified by Congress or donated by nonprofit organizations. The purchase of easements from willing sellers will be subject to available money.

The Service has involved the public, agencies, partners, and legislators throughout the planning process for the easement program. At the beginning of the planning process, the Service initiated public involvement for the proposal to protect habitats primarily through acquisition of wetland and grassland conservation easements for management as part of the Refuge System. The Service spent time discussing the proposed project with landowners; conservation organizations; Federal, State and county governments; tribes and other interested groups and individuals. The Service held three open-house meetings on December 14, 15, and 16, 2010, at Minot, North Dakota; Jamestown, North Dakota; and Huron, South Dakota; respectively. These open houses were announced in local media.

In compliance with the National Environmental Policy Act of 1969 (42 U.S.C. 4321), the Service prepared an environmental assessment (EA) that evaluated two alternatives and their potential impacts on the project area. The Service released the draft environmental assessment (EA) and LPP on June 20, 2011, for a 30-day public review period. The draft documents were made available to Federal elected officials and agencies, State elected officials and agencies, 32 Native American tribes with aboriginal or tribal interests, local media, and other members of the public that were identified during the scoping process.

In addition, two public meetings were held, in Bismarck, North Dakota, and in Miller, South Dakota, on June 28 and 29, 2011, respectively. These meetings were announced in advance in local media. Approximately 50 landowners, citizens, and elected representatives attended the meetings. The Service received 10 letters from agencies, organizations, and other entities, and 347 general public comments. After all comments were received, they were reviewed, added to the administrative record, and incorporated into the environmental assessment (EA) if substantial.

Based on the documentation contained in the environmental assessment (EA), a Finding of No Significant Impact was signed on September 1, 2011, for the establishment of the Dakota Grassland Conservation Area.

Dated: December 2, 2011.
Matt Hogan,
Acting, Deputy Regional Director, Mountain-Prairie Region, U.S. Fish and Wildlife Service.

[FR Doc. 2012-3650 Filed 2-15-12; 8:45 am]

BILLING CODE 4310-55-P